DEPARTMENT OF TRANSPORTATION

Federal Aviation Administration

14 CFR Part 39

[Docket No. 2000-NM-336-AD]

RIN 2120-AA64

Airworthiness Directives; Aerospatiale Model ATR42-200, -300, -320, and -500 Series Airplanes, and Model ATR72 Series Airplanes

AGENCY: Federal Aviation Administration, DOT.

ACTION: Notice of proposed rulemaking (NPRM).

SUMMARY: This document proposes the adoption of a new airworthiness directive (AD) that is applicable to all Aerospatiale Model ATR42-200, -300, -320, and -500 series airplanes and all Model ATR72 series airplanes. This proposal would require temporarily revising the Airplane Flight Manual (AFM) to add tests of the engine fire protection system and conducting those tests prior to each flight. This proposal would also require replacement of defective engine fire handles with serviceable fire handles, which would terminate the revision of the AFM and the repetitive tests of the engine fire protection system. This action is necessary to prevent improper functioning of the engine fire handles, due to a machining defect of the control shaft bore guide, which could result in failure of the engine fire extinguisher to operate properly. This action is intended to address the identified unsafe condition.

DATES: Comments must be received by April 30, 2001.

ADDRESSES: Submit comments in triplicate to the Federal Aviation Administration (FAA), Transport Airplane Directorate, ANM-114, Attention: Rules Docket No. 2000-NM-336-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-336-AD” in the subject line and need not be submitted in triplicate. Comments sent via the Internet as attached electronic files must be formatted in Microsoft Word 97 for Windows or ASCII text.

The service information referenced in the proposed rule may be obtained from Aerospatiale, 316 Route de Bayonne, 31060 Toulouse, Cedex 03, France. This information may be examined at the FAA, Transport Airplane Directorate, 1601 Lind Avenue, SW., Renton, Washington.

FOR FURTHER INFORMATION CONTACT: Gary Lium, Aerospace Engineer, ANM-116, FAA, Transport Airplane Directorate, 1601 Lind Avenue, SW., Renton, Washington 98055-4056; telephone (425) 227-1112; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-336-AD.” The postcard will be date stamped and returned to the commenter.

Availability of NPRMs

Any person may obtain a copy of this NPRM by submitting a request to the FAA, Transport Airplane Directorate, ANM-114, Attention: Rules Docket No. 2000-NM-336-AD, 1601 Lind Avenue, SW., Renton, Washington 98055-4056.

Discussion

The Direction Générale de l'Aviation Civile (DGAC), which is the airworthiness authority for France, notified the FAA that an unsafe condition may exist on certain Aerospatiale Model ATR42 and ATR72 series airplanes. The DGAC advises that, during functional tests on the assembly lines, inspectors have observed that some engine fire handles were defective, functioning only intermittently. Further investigation revealed that one production batch of the fire handles could have a machining defect in the control shaft guide bore. This condition, if not corrected, could result in improper functioning of the engine fire handles, which could result in failure of the engine fire extinguisher to operate properly.

Explanation of Relevant Service Information

Avions de Transport Regional has issued Service Bulletins ATR42-26-0023 (for Aerospatiale Model ATR42 series airplanes) and ATR72-26-1014 (for Aerospatiale Model ATR72 series airplanes), both dated July 7, 2000. The service bulletins describe procedures for inspection to determine the serial numbers of the engine fire handle to establish whether they may be defective. Accomplishment of the actions specified in the service bulletins is intended to adequately address the identified unsafe condition. The DGAC classified these service bulletins as mandatory and issued French airworthiness directives 2000-281-078(B) (for Model ATR42 series airplanes) and 2000-282-050(B) (for Model ATR72), both with an effective date of July 8, 2000, in order to assure the continued airworthiness of these airplanes in France. The French airworthiness directives also require temporary revision of the Aircraft Flight Manual (AFM) and performance of a test of the engine fire protection system.

The two service bulletins reference Labinal Aero Systems Service Bulletin 26-26-11-001, dated June 2000, as an additional source of service information to detect defective engine fire handles. If defective handles are detected, any corrective action is to be performed only by Labinal.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require temporarily revising the AFM to add tests of the engine fire protection system and conducting these tests prior to each flight. The proposed AD would also require inspection of the engine fire handles to identify their serial numbers and replacement of defective engine fire handles with serviceable handles, which would terminate the temporary revision of the AFM and the pre-flight tests of the engine fire protection system.

Difference Between Proposed Rule and Foreign Airworthiness Directives

The proposed AD would differ from the parallel French airworthiness directives in that it would require temporary revision of the AFM within 10 days. The parallel French airworthiness directives recommend accomplishment of the temporary revision of the AFM within 3 days. In developing an appropriate compliance time for this AD, the FAA considered not only the DGAC's recommendation, but also the degree of urgency associated with addressing the subject unsafe condition. The FAA finds a 10-day compliance time for temporary revision of the AFM to be warranted in that it represents an appropriate interval of time allowable for affected airplanes to continue to operate without compromising safety.

Cost Impact

The FAA estimates that 69 airplanes of U.S. registry would be affected by this proposed AD.

It would take approximately 1 work hour per airplane to accomplish the temporary revision of the AFM, at an average labor rate of $60 per work hour. Based on these figures, the cost impact of the proposed temporary revision of the AFM on U.S. operators is estimated to be $4,140, or $60 per airplane.

It would take approximately 1 work hour per airplane to accomplish the pre-flight test of the engine fire protection system, at an average labor cost of $60. Based on these figures, the cost impact of the proposed test on U.S. operators is estimated to be $4,140, or $60 per airplane, per test.

It would take approximately 2 work hours per airplane to accomplish the proposed inspection for defective engine fire handles, at an average labor cost of $60. Based on these figures, the cost impact of the proposed AD on U.S. operators is estimated to be $8,280, or $120 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Aerospatiale: Docket 2000-NM-336-AD.

Applicability: All Model ATR42-200, -300, -320, and -500 series airplanes, and Model ATR72 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent improper function of the engine fire handles, due to a machining defect of a control shaft bore guide, which could result in failure of the engine fire extinguisher to operate properly, accomplish the following:

Temporary Revision of the Aircraft Flight Manual (AFM)

(a) Within 10 days from the effective date of this AD: Revise the Normal Procedures section of the FAA-approved AFM by inserting the following. This may be accomplished by inserting a copy of this AD into the AFM.

“Before each flight

Engine 2 fire protection

Depress SQUIB TEST pushbutton and check that both AGENT SQUIB lights illuminate.

Engine 1 fire protection

Depress SQUIB TEST pushbutton and check that both AGENT SQUIB lights illuminate.”

Test of Engine Fire Protection System

(b) After accomplishing paragraph (a) of this AD and prior to each flight thereafter: Perform a test of the engine fire protection system, in accordance with the temporary revision of the AFM specified in paragraph (a) of this AD, until accomplishment of paragraph (c) of this AD.

Terminating Action

(c) Within 21 months from the effective date of this AD: Remove the engine fire handles and inspect them to determine the serial number, in accordance with Avions de Transport Regional Service Bulletin ATR42-26-0023 (for Aerospatiale Model ATR42 series airplanes) or ATR72-26-1014 (for Model ATR72 series airplanes), both dated July 7, 2000, and accomplish paragraph (c)(1) or (c)(2) of this AD, as applicable.

(1) For any engine fire handle having a serial number listed in paragraph 1.C.(2) of the Planning Information of the applicable service bulletin: Perform the Labinal Service Bulletin 26-26-11-001, dated June 2000, and re-install the fire handle.

(2) For any engine fire handle identified in paragraph 1.C.(3) of the Planning Information of the applicable service bulletin: Re-install the fire handles, per the applicable service bulletin.

Note 2: After accomplishment of paragraph (c)(1) or (c)(2) of this AD, the temporary revision to the AFM required by paragraph (a) of this AD may be removed from the AFM, and the pre-flight tests of the engine fire protection system required by paragraph (b) of this AD may be discontinued.

Spare Parts

(d) As of the effective date of this AD, no person may install an engine fire handle having part number (P/N) 19-51-41 or P/N 19-51-51 and having a serial number listed in paragraph 1.C.(2) of the Planning Information of Avions de Transport Regional Service Bulletin ATR42-26-0023 (for ATR42 series airplanes) or ATR72-26-1014 (for Model ATR72 series airplanes), both dated July 7, 2000, unless the engine fire handle has been repaired, in accordance with the applicable service bulletin.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance §§ 21.197 and 21.199 of the Federal Aviation Regulations (14 CFR 21.197 and 21.199) to operate the airplane to a location where the requirements of this AD can be accomplished.

Note 4: The subject of this AD is addressed in French airworthiness directives 2000-282-050(B) and 2000-281-078(B), both with an effective date of July 8, 2000.

Issued in Renton, Washington, on March 22, 2001.
Donald L. Riggin,
Acting Manager, Transport Airplane Directorate, Aircraft Certification Service.

[FR Doc. 01-7703 Filed 3-28-01; 8:45 am]

BILLING CODE 4910-13-U